DEPARTMENT OF COMMERCE

International Trade Administration

[A-560-826]

Monosodium Glutamate From Indonesia: Final Results of Antidumping Duty Administrative Review; 2015-2016

AGENCY: Enforcement and Compliance, International Trade Administration, U.S. Department of Commerce.

SUMMARY: The Department of Commerce (Commerce) determines that PT Cheil Jedang Indonesia (CJI), an exporter of monosodium glutamate (MSG) from Indonesia, did not sell MSG at less than fair value during the period of review (POR) November 1, 2015, through October 31, 2016.

DATES: Applicable March 29, 2018.

FOR FURTHER INFORMATION CONTACT: Caitlin Monks or Joseph Traw, AD/CVD Operations, Office VII, Enforcement and Compliance, International Trade Administration, U.S. Department of Commerce, 1401 Constitution Avenue NW, Washington, DC 20230; telephone: (202) 482-2670 or (202) 482-6079, respectively.

SUPPLEMENTARY INFORMATION:

Background

This review covers one exporter of the subject merchandise, CJI. On December 4, 2017, Commerce published the Preliminary Results of this administrative review.¹ On January 12, 2017, we invited parties to submit comments on the Preliminary Results.² On February 12, 2018, CJI filed a case brief.³ No party requested a hearing nor did any file a rebuttal brief. Commerce conducted this administrative review in accordance with section 751(a) of the Tariff Act of 1930, as amended (the Act).

¹ See Monosodium Glutamate from Indonesia: Preliminary Results of Antidumping Duty Administrative Review; 2015-2016, 82 FR 57221 (December 4, 2017) (Preliminary Results).

² See Memorandum to the File “Antidumping Duty Administrative Review of Monosodium Glutamate from Indonesia: Case Brief Schedule,” January 12, 2017.

³ See CJ's Case Brief “Monosodium Glutamate (“MSG”) from Indonesia; 2nd Administrative Review; CJ Case Brief,” dated February 12, 2018.

Scope of the Order

The merchandise covered by this order is monosodium glutamate (MSG), whether or not blended or in solution with other products. Specifically, MSG that has been blended or is in solution with other product(s) is included in this order when the resulting mix contains 15 percent or more of MSG by dry weight. Products with which MSG may be blended include, but are not limited to, salts, sugars, starches, maltodextrins, and various seasonings. Further, MSG is included in this order regardless of physical form (including, but not limited to, in monohydrate or anhydrous form, or as substrates, solutions, dry powders of any particle size, or unfinished forms such as MSG slurry), end-use application, or packaging.

MSG in monohydrate form has a molecular formula of C5H8NO4Na -H2O, a Chemical Abstract Service (CAS) registry number of 6106-04-3, and a Unique Ingredient Identifier (UNII) number of W81N5U6R6U. MSG in anhydrous form has a molecular formula of C5H8NO4 Na, a CAS registry number of l42-47-2, and a UNII number of C3C196L9FG.

Merchandise covered by this order is currently classified in the Harmonized Tariff Schedule of the United States (HTSUS) at subheading 2922.42.10.00. Merchandise covered by this order may also enter under HTSUS subheadings 2922.42.50.00, 2103.90.72.00, 2103.90.74.00, 2103.90.78.00, 2103.90.80.00, and 2103.90.90.91. These tariff classifications, CAS registry numbers, and UNII numbers are provided for convenience and customs purposes; however, the written description of the scope is dispositive.

Analysis of Comment Received

All issues raised in the sole case brief filed in this review are addressed in the Issues and Decision Memorandum.⁴ A list of issues addressed in the Issues and Decision Memorandum is appended to this notice. The Issues and Decision Memorandum is a public document and is available electronically via Enforcement and Compliance's Antidumping and Countervailing Duty Centralized Electronic Services System (ACCESS). ACESS is available to registered users at http://access.trade.gov, and it is available to all parties in the Central Records Unit of the main Commerce Building, room B-8024. In addition, a complete version of the Issues and Decision Memorandum is also accessible on the internet at http://enforcement.trade.gov/frn/index.html. The signed Issues and Decision Memorandum and the electronic versions of the Issues and Decision Memorandum are identical in content.

⁴ See Issued and Decision Memorandum dated concurrently with and hereby adopted by this notice.

Changes Since the Preliminary Results

Based on our analysis of the comment received, we made changes to our normal value and margin calculations for CJI. A complete discussion of these changes can be found in the Issues and Decision Memorandum. These changes did not affect Commerce's determination that sales of subject merchandise by CJI were not made at prices less than normal value during the POR.

Final Results of Review

Commerce determines that the following weighted-average dumping margin exists for entries of subject merchandise that were produced and/or exported by the following company during the POR:

Manufacturer/exporter | Weighted- average margin (percent)
PT Cheil Jedang Indonesia | 0.00

Assessment Rates

Commerce shall determine, and U.S. Customs and Border Protection (CBP) shall assess, antidumping duties on all appropriate entries of subject merchandise in accordance with the final results of this review, in accordance with section 751(a)(2)(C) of the Act and 19 CFR 351.212(b). CJI's weighted-average dumping margin in these final results is zero percent. Therefore, we will instruct CBP to liquidate all appropriate entries without regard to antidumping duties. Commerce intends to issue the appropriate assessment instructions for CJI to CBP 15 days after the date of publication of these final results.

Cash Deposit Requirements

The following deposit requirements will be effective for all shipments of subject merchandise entered, or withdrawn from warehouse, for consumption on or after the date of publication of the final results of this administrative review, as provided for by section 751(a)(2)(C) of the Act: (1) The cash deposit rate for CJI will be the weighted-average dumping margin listed above; (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and, (4) if neither the exporter nor the manufacturer is a firm covered in this or any previous review, the cash deposit rate will be the all others rate for this proceeding, 6.19 percent, as established in the less-than-fair-value investigation.⁵ These cash deposit requirements, when imposed, shall remain in effect until further notice.

⁵ See Monosodium Glutamate from the Republic of Indonesia: Final Determination of Sales at Less Than Fair Value 79 FR 58329 (September 29, 2014).

Disclosure

We will disclose the calculations performed within five days of the date of publication of this notice to parties in this proceeding, in accordance with 19 CFR 351.224(b).

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

These final results are in accordance with sections 751(a)(1) and 777(i)(1) of the Act and 19 CFR 351.213(h) and 351.221(b)(5).

Dated: March 23, 2018.
Gary Taverman,
Deputy Assistant Secretary for Antidumping and Countervailing Duty Operations, performing the non-exclusive functions and duties of the Assistant Secretary for Enforcement and Compliance.

Appendix

Issues in the Decision Memorandum

I. Summary

II. Background

III. Scope of the Order

IV. Discussion of the Issue

Comment: Ministerial Corrections to AD Margin Calculations

V. Recommendation

[FR Doc. 2018-06346 Filed 3-28-18; 8:45 am]

BILLING CODE 3510-DS-P